ENVIRONMENTAL PROTECTION AGENCY

40 CFR Part 52

[EPA-R10-OAR-2008-0155; A-1-FRL-9248-1]

Approval and Promulgation of State Implementation Plans: Oregon

AGENCY: Environmental Protection Agency (EPA).

ACTION: Final rule.

SUMMARY: The EPA is approving State Implementation Plan (SIP) revisions submitted by the State of Oregon, Department of Environmental Quality (ODEQ). These revisions pertain to the Clean Air Act (CAA) section 110(a) maintenance plans prepared by ODEQ, to maintain the 8-hour national ambient air quality standard (NAAQS) for ozone, in the Portland portion of the Portland/Vancouver Air Quality Maintenance Area (Pdx/Van AQMA), and the Salem-Keizer Area Transportation Study Air Quality Area (SKATS). The 110(a)(1) maintenance plans for these areas meet CAA requirements and demonstrate that each of the above mentioned areas will be able to remain in attainment for the 1997 and 2008 8-hour ozone NAAQS through 2015. As SKATS appears to be significantly impacted by emissions from the Portland area, an approved plan for the Pdx/Van AQMA is one of the control strategies for SKATS. Therefore, EPA is approving the section 110(a) plans for the Portland portion of the Pdx/Van AQMA and SKATS at the same time.

Additionally, the EPA is approving SIP revisions submitted by ODEQ that phase out the State's Vehicle Inspection Program (VIP) enhanced BAR-31 test, and eliminate the Gas Cap Pressure Test and the Evaporative Purge Tests.

DATES: This action is effective on January 18, 2012.

ADDRESSES: The EPA has established a docket for this action under Docket Identification Number: EPA-R10-OAR-2008-0155. All documents in the docket are listed on the http://www.regulations.gov Web site. Although listed in the index, some information may not be publicly available, i.e., Confidential Business Information or other information whose disclosure is restricted by statute. Certain other material, such as copyrighted material, is not placed on the Internet and will be publicly available only in hard copy form. Publicly available docket materials are available either electronically in www.regulations.gov or in hard copy during normal business hours at EPA Region 10, Office of Air, Waste, and Toxics (AWT-107), 1200 Sixth Avenue, Seattle, Washington 98101. The EPA requests that you contact the person listed in the FOR FURTHER INFORMATION CONTACT section to schedule your inspection. The Region Office's official hours of business are Monday through Friday, 8:30 a.m. to 4:30 p.m. excluding Federal Holidays.

FOR FURTHER INFORMATION CONTACT: Krishna Viswanathan, (206) 553-2684, or by email at viswanathan.krishna@epa.gov.

SUPPLEMENTARY INFORMATION: Throughout this document whenever “we,” “us,” or “our” is used, we mean the EPA. Information is organized as follows:

Table of Contents

I. Background

II. Final Action

III. Statutory and Executive Order Reviews

I. Background

On May 6, 2010 (75 FR 24844), EPA proposed to approve the State of Oregon's State Implementation Plan (SIP) revision that establishes a maintenance plan for ozone in the Portland portion of the Portland/Vancouver Air Quality Maintenance Area (Pdx/Van AQMA) and the Salem-Keizer Area Transportation Study Air Quality Area (SKATS). This plan provides measures that enable continued attainment of the 8-hour ozone NAAQS for at least 10 years after designation, and includes a 2002 base-year emissions inventory. EPA also proposed approval of SIP revisions submitted by Oregon Department of Environmental Quality (ODEQ) that phase out the State's VIP enhanced BAR-31 test, and eliminate the Gas Cap Pressure Test and the Evaporative Purge Tests. No comments were received on the proposed approval of this plan. EPA is, accordingly, taking final action in this notice to approve the plan as discussed in the proposed action without change.

II. Final Action

EPA is approving the section 110(a)(1) maintenance plan and supporting rules for Portland and Salem, Oregon submitted on May 22, 2007, and described further in the Technical Support document, as revisions to the Oregon SIP. EPA is approving the maintenance plan and supporting rules for the Portland Portion of the Pdx/Van AQMA and SKATS. EPA is also taking final action to approve revisions to the Oregon SIP pertaining to motor vehicle testing provisions (Oregon SIP: Volume 2—section 5.4.7—Test Procedures and Standards and supporting rules). These revisions will not interfere with the attainment or maintenance of the current CO or ozone NAAQS and meet the requirements of section 110(a)(1) and section 110(l) of the CAA.

EPA will retain the tables in 40 CFR part 81 that identify the 1-hour ozone designation and classification status of each area as of the effective date of the 8-hour designations. (See 70 FR 44471.) Therefore, although the SKATS area is a State maintenance area for the 1-hour ozone standard, 40 CFR part 81 will retain the nonattainment designation for the SKATS area. EPA believes that the CAA does not require a separate 110(l) analysis to replace 1-hour nonattainment NSR with PSD once an area has been redesignated to attainment for the 1997 8-hour ozone standard, or has an approved 110(a)(1) maintenance plan for that standard. (See 75 FR 64677). In sum, EPA does not require the continued application of 1-hour anti-backsliding nonattainment NSR in the SKATS area as long as Oregon interprets its SIP as applying PSD to this area.

EPA is incorporating by reference the revisions submitted by the State to the Oregon Administrative Rules, Chapter 340 as identified below. Certain other provisions of the Oregon SIP are addressed and approved by this action but are not being incorporated by reference into 40 CFR Part 52 to avoid potential conflict with EPA's independent authorities. See also 68 FR 2891, 2900-2901 (January 22, 2003) for a discussion of Oregon's underlying statutory authority.

III. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by February 17, 2012. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Ozone, Hydrocarbons, Incorporation by reference, Intergovernmental relations, Nitrogen dioxide, Reporting and recordkeeping requirements, Volatile organic compounds.

Dated: November 9, 2011.
Dennis J. McLerran,
Regional Administrator, Region 10.

Part 52, chapter I, title 40 of the Code of Federal Regulations is amended as follows:

PART 52—[AMENDED]

1. The authority citation for Part 52 continues to read as follows:

Authority: 42 U.S.C. 7401 et seq.

Subpart MM—Oregon

2. Section 52.1970 is amended by adding paragraph (c)(152) to read as follows:

§ 52.1970 Identification of plan.

* * * * *

(c) * * *

(152) On August 9, 2005, and May 22, 2007, the Oregon Department of Environmental Quality submitted revisions to the Oregon State Implementation Plan. The revisions provide an ozone maintenance plan under section 110(a)(1) of the CAA for the Portland portion of the Portland-Vancouver Air Quality Maintenance Area and the Salem-Keizer Area Transportation Study Air Quality Area, and phase out of the State's VIP enhanced BAR-31 test, the elimination of the Gas Cap Pressure Test and the Evaporative Purge Test. The State's maintenance plan revisions meet the requirements of the Clean Air Act.

(i) Incorporation by reference.

(A) The following revised sections of the Oregon Administrative Rules, Chapter 340, effective April 12, 2007:

(1) Division 200, General Air Pollution Procedures and Definitions: Rule 0025, Abbreviations and Acronyms;

(2) Division 202, Ambient Air Quality Standards and PSD Increments: Rule 0090, Ozone;

(3) Division 204, Designation of Air Quality Areas: Rule 0010, Definitions; Rule 0030, Designation of Nonattainment Areas, the undesignated introductory text, (2); Rule 0040, Designation of Maintenance Areas, the undesignated introductory text, (2);

(4) Division 224, Major New Source Review: Rule 0050, Requirements for Sources in Nonattainment Areas; Rule 0060, Requirements for Sources in Maintenance Areas;

(5) Division 225, Air Quality Analysis Requirements; Rule 0090, Requirements for Demonstrating a Net Air Quality Benefit;

(6) Division 232, Emission Standards for VOC Point Sources: Rule 0010, Introduction; Rule 0020, Applicability;

(7) Division 242, Rules Applicable to the Portland Area, Employee Commute Options Program: Rule 0010, What is the Employee Commute Options Program?; Rule 0020, Who is Subject to ECO?; Rule 0030, What Does ECO require?; Rule 0040, How Does the Department Enforce ECO?; Rule 0050, Definitions of Terms Used in These Rules; Rule 0070, What are the Major Requirements of ECO?; Rule 0080, What are the Registration Requirements?; Rule 0090, What are the Requirements for an Employee Survey?; Rule 0110, What if an Employer Does Not Meet the Target Auto Trip Rate?; Rule 0120, How Will Employers Demonstrate Progress Toward the Target Auto Trip Rate?; Rule 0160, What Should Be Included in an Auto Trip Reduction Plan?; Rule 0180, What is a Good Faith Effort?; Rule 0190, How Does the ECO Program Affect New Employees, Expanding Employers and Employers Relocating within the Portland AQMA?; Rule 0200, Can a New or Relocating Employer Comply with ECO Through Restricted Parking Ratios?; Rule 0210, Can an Existing Employer Comply with ECO Through Restricted Parking Ratios?; Rule 0220, What if an Employer Has More Than One Work Site Within the Portland AQMA?; Rule 0240, Are There Alternatives to Trip Reduction?; Rule 0260, Can Employers Get Credit for Existing Trip Reduction Programs?; Rule 0270, Are Exemptions Allowed if an Employer is Unable to Reduce Trips or Take Advantage of Alternate Compliance Options?; Rule 0280, Participation in the Industrial Emission Management Program; Rule 0290, What Kind of Records Must be Kept and for How Long?;

(8) Division 242, Rules Applicable to the Portland Area, Industrial Emission Management Program: Rule 0400, Applicability; Rule 0410, Definition of Terms; Rule 0420, Unused PSEL Donation Program; Rule 0430, Industrial Growth Allowances; Rule 0440, Industrial Growth Allowance Allocation.

(B) The following revised sections of the Oregon Administrative Rules, Chapter 340, effective July 12, 2005;

(1) Division 256, Motor Vehicles, Rule 0010, Definitions;

(2) Division 256, Motor Vehicles, Visible Emissions: Rule 0100, Visible Emissions—General Requirements, Exclusions; Rule 0130, Motor Vehicle Fleet Operation;

(3) Division 256, Motor Vehicles, Emission Control System Inspection: Rule 0300, Scope; Rule 0310, Government-Owned Vehicle, Permanent Fleet Vehicle and United States Government Vehicle Testing Requirements; Rule 0340, Light Duty Motor Vehicle and Heavy Duty Gasoline Motor Vehicle Emission Control Test Method for Basic Program; Rule 0350, Light Duty Motor Vehicle Emission Control Test Method for Enhanced Program; Rule 0380, Light Duty Motor Vehicle Emission Control Test Criteria for Basic Program; Rule 0390, Heavy Duty Gasoline Motor Vehicle Emission Control Test Criteria.

(ii) Additional material.

(A) SIP Volume 2 Section 5.4.7: Test Procedures and Standards, as effective July 12, 2005.

3. Section 52.1973 is amended by revising paragraph (d) to read as follows:

§ 52.1973 Approval of plans.

* * * * *

(d) Ozone. (1) EPA approves as a revision to the Oregon State Implementation Plan, the section 110(a)(1) ozone maintenance plans for Portland and Salem, submitted to EPA on May 22, 2007.

(2) [Reserved]

* * * * *

[FR Doc. 2011-32173 Filed 12-16-11; 8:45 am]

BILLING CODE 6560-50-P